DEPARTMENT OF TRANSPORTATION

Federal Aviation Administration (FAA)

Notice of Opportunity for Public Comment on Surplus Property Release at Laurinburg-Maxton Airport, Maxton, NC

AGENCY: Federal Aviation Administration (FAA), DOT.

ACTION: Notice.

SUMMARY: Under the provisions of title 49, U.S.C. Section 47153(c), notice is being given that the FAA is considering a request from the Laurinburg-Maxton Airport Commission to waive the requirement that approximately 20.26 acres of airport property, located at the Laurinburg-Maxton Airport, be used for aeronautical purposes.

DATES: Comments must be received on or before November 16, 2011.

ADDRESSES: Comments on this notice May be mailed or delivered in triplicate to the FAA at the following address:

Atlanta Airports District Office, Attn: Rusty Nealis, Program Manager, 1701 Columbia Ave., Suite 2-260, Atlanta, GA 30337-2747.

In addition, one copy of any comments submitted to the FAA must be mailed or delivered to JoAnn Gentry, Executive Director, Laurinburg-Maxton Airport Commission at the following address:

Laurinburg-Maxton Airport Commission, 16701 Airport Road, Maxton, NC 28364.

FOR FURTHER INFORMATION CONTACT: Rusty Nealis, Program Manager, Atlanta Airports District Office, 1701 Columbia Ave., Campus Building, Suite 2-260, Atlanta, GA 30337-2747, (404) 305-7142. The application may be reviewed in person at this same location.

SUPPLEMENTARY INFORMATION: The FAA is reviewing a request by the Laurinburg-Maxton Airport Commission to release approximately 20.26 acres of airport property at the Laurinburg-Maxton Airport. The property consists of one parcel located north of S.R. 1434, Airport Road. This property is currently shown on the approved Airport Layout Plan as non-aeronautical use land and the proposed use of this property is compatible with airport operations. The City will ultimately sell the property for future industrial use with proceeds of the sale providing funding for future airport development.

Any person may inspect the request in person at the FAA office listed above under FOR FURTHER INFORMATION CONTACT. In addition, any person may, upon request, inspect the request, notice and other documents germane to the request in person at the Laurinburg-Maxton Airport.

Issued in Atlanta, Georgia on October 6, 2011.
Larry F. Clark,
Assistant Manager, Atlanta Airports District Office Southern Region.

[FR Doc. 2011-26759 Filed 10-14-11; 8:45 am]

BILLING CODE 4910-13-M